FEDERAL EMERGENCY MANAGEMENT AGENCY

Grants for State and Local Homeland Security Activities

AGENCY: Office of National Preparedness (ONP), Federal Emergency Management Agency (FEMA).

ACTION: Notice of availability of fiscal year 2002 supplemental funds for State and local all-hazards emergency operational planning, Citizen Corps activities, and development or improvement of Emergency Operations Centers.

SUMMARY: FEMA gives notice of the availability of funds for fiscal year (FY) 2002 for State and local all-hazards emergency operations planning; for the development or improvement of State and local Emergency Operations Centers (EOCs); and for further development of Citizen Corps, including funds for Citizen Corps Councils and for Community Emergency Response Team (CERT) training. Funding of $100 million is available for planning, $56 million for EOCs, and $25 million for Citizen Corps.

FOR FURTHER INFORMATION CONTACT: Gil Jamieson, Federal Emergency Management Agency, Office of National Preparedness, 500 C Street, SW., Washington, DC 20472, (202) 646-4090 or e-mail: gil.jamieson@fema.gov.

SUPPLEMENTARY INFORMATION:

Authority and Appropriation

The legislative authority for the program activities described in this notice are the Robert T. Stafford Disaster Relief and Emergency Assistance Act (Stafford Act), 42 U.S.C. 5121-5206;. The 2002 Supplemental Appropriations Act For Further Recovery From and Response To Terrorist Attacks on the United States, P.L. 107-206.

Applicant Eligibility

States are eligible to apply for the assistance described in this notice. The term “State” as used in this notice and consistent with the Stafford Act, 42 U.S.C. 5122(4), means any State of the United States, the District of Columbia, Puerto Rico, the Virgin Islands, Guam, American Samoa, and the Commonwealth of the Northern Mariana Islands.

Local governments may receive assistance as subgrantees of the States in which they are located. The term “Local government” as used in this notice shall have the meaning set forth in the Stafford Act, 42 U.S.C. 5122(6).

Activities To Be Funded

State and Local All Hazards Emergency Operational Planning

The FY 2002 supplemental funding will provide comprehensive planning assistance to State and local governments to conduct Emergency Operations Plan (EOP) updating for all hazards with special emphasis on incidents of terrorism including use of weapons of mass destruction (WMD). The funds for planning grants will be allocated among the States on the basis of population and will require no cost share. Each State grantee of these planning funds will be required to pass through at least 75 percent of the amount received to local governments.

Coordinated planning at the State and local levels is essential to meet urgent needs for improving the planning initiatives of State and local emergency management and first responder organizations to effectively request and use future resources and thereby build and enhance our Nation's capability to respond to and recover from the imminent threat or actual occurrence of a terrorist attack including use of WMD.

States will receive supplemental 2002 funding to modify and enhance their EOPs, as needed, so that they address all hazards, to include terrorism using WMD or conventional means. Funds should also be used for the following emergency planning objectives:

• Incorporate interstate and intrastate mutual aid agreements,

• Facilitate communication and interoperability protocols,

• Establish a common incident command system, * Address critical infrastructure protection,

• Conduct State and local assessments to determine emergency management planning priorities,

• Address State and local continuity of operations and continuity of government, and

• Provide for coordination and effective use of volunteers in response and preparedness activities.

Citizen Corps

Grants under the Citizen Corps initiative will be available to establish Citizen Corps Councils, to support the oversight and outreach responsibilities of the councils, and to expand CERT training. Of the $25 million appropriated for Citizen Corps, $4 million will be used for grants related to Citizen Corps Councils, $17 million will be used for grants related to CERT training, and $4 million will be used by FEMA for activities essential for developing the Citizen Corps initiative.

Citizen Corps funds will be allocated to States using the percentages prescribed in Section 1014 of the USA Patriot Act, Pub. L. 107-56. Each State will be allocated a base amount of not less than 0.75 percent of the total amount available except that the Virgin Islands, Guam, American Samoa, and the Commonwealth of the Northern Mariana Islands each will be allocated a base amount of 0.25 percent. The remaining Citizen Corps grant funds will be allocated on the basis of population and added to the base amounts. Citizen Corps grants and subgrants described in this notice will carry no cost-share requirement.

Grantees will be expected to develop and implement a jurisdiction-wide strategic plan for Citizen Corps, including forming local Citizen Corps Councils, CERT training, public education and outreach, and volunteer opportunities that promote community and family safety. Local governments receiving grants may use the funding for Citizen Corps Council organizing activities; for outreach and public education campaigns to promote Citizen Corps and community and family safety measures, to include printing, marketing, advertising, and special events; for organizing, training, equipping, and maintaining CERTs; and for defraying the added expense of liability coverage for CERT participants.

Each grantee of Citizen Corps funds will be required to subgrant at least 75 percent of those funds to local governments with no cost share. Grantees are expected to give priority to local governments that have demonstrated a commitment to community and family safety or to local governments that have a high-risk profile based on crime, disaster vulnerabilities, and public health issues. A commitment to community and family safety is shown by such activities as having established or planned a Citizen Corps Council, having programs to promote community and family safety, having conducted community-based events that promote safety, having established mutual aid agreements with other jurisdictions, and having demonstrated a commitment to citizen participation in crime prevention and disaster mitigation, preparedness, response, and recovery.

Emergency Operations Centers (EOCs)

The funding for EOCs will be awarded in two phases. Each State will be allocated a $50,000 Phase 1 grant, which is targeted for an initial assessment of the hazards, vulnerabilities, and resultant risk to the existing EOC. If a State has already completed a vulnerability assessment of its existing State EOC, it may apply to use the funds to conduct initial assessments of local EOCs. Phase 1 EOC activity will be 100 percent federally funded, i.e., will require no cost share.

Phase 2 EOC grants will use the remaining funds to address the most immediate EOC deficiencies nationwide. The Phase 2 EOC grants will require a 50-percent non-Federal cost share.

During Phase 2, we invite the States to submit grant applications that reflect deficiencies documented in a completed self-assessment that reflects statewide needs, is consistent with national priorities, and considers characteristics associated with a fully functioning EOC. EOC self-assessment criteria will be provided in the grant guidance package.

Project applications will be evaluated and selections made for funding on the basis of the following order of national priorities:

• Physical modifications to the EOC to support secure communications equipment;

• New EOC construction where the most cost effective action is new construction (Cost-benefit ratio should be greater than 1);

• Corrective construction to address deficiencies determined by the Risk Assessment;

• Architectural and Engineering services for EOC projects in FY 2003 and out years;

• Creation of State Alternate EOC at an existing building for Continuity of Operations;

• Physical modifications to enhance security, but not the hiring of guards;

• Retrofits of existing EOCs with collective protection systems for Chemical, Biological, Radiological, or Nuclear (CBRN) agents;

• Redundant communications; and

• Other projects to increase the survivability of existing State or local EOCs.

FEMA will conduct the final environmental review and approval for all activities in accordance with Title 44, Code of Federal Regulations, Part 10 (44 CFR part 10) prior to awarding any grants. The approval for some activities, including the risk/vulnerability assessments of EOCs, is automatic through the categorical exclusion under the National Environmental Policy Act, per 44 CFR 10.8. However, some EOC projects, including physical modifications to EOCs for secure communications equipment, may require a more extensive environmental review, sometimes resulting in an environmental assessment. To expedite the approval process, States should consult with the FEMA Regional office as they develop their environmental documentation. Until FEMA has completed its environmental review, States may not initiate work on these projects.

EOC construction projects supported by these grants are subject to the provisions of the Davis-Bacon Act. All laborers and mechanics employed by contractors or subcontractors in performance of construction work assisted by these EOC grants must be paid wages at rates not less than those prevailing on similar construction in the locality as determined by the Secretary of Labor in accordance with Davis-Bacon and related Acts.

Grant Application Process

The chief elected official of each eligible jurisdiction will receive a letter from FEMA describing the grant activity and requesting that a point of contact (POC) and alternate be appointed. Guidance and grant application packages will be provided to the POCs.

A single grant application may be used to apply for the planning, Citizen Corps and Phase 1 EOC program elements. A separate application should be prepared for the Phase 2 EOC program element. The grant application for the planning, Citizen Corps, and Phase 1 EOC program elements should include:

• Application for Federal Assistance, Standard Form 424;

• Budget Information “ Non-Construction Program, FEMA Form 20-20;

• Budget Narrative;

• Summary Sheet for Assurances and Certification, FEMA Form 20-16;

• Assurances “ Non-Construction Program, FEMA Form 20-16A;

• Certification Regarding Lobbying; Debarment, Suspension and Other Responsibility Matters; and Drug-Free Workplace Requirements, FEMA Form 20-16C;

• Disclosure of Lobbying Activities, Standard Form LLL; and,

• Program Narrative identifying the activities for which funding is requested.

The Program Narrative should include the following:

• Description of how States will work with local governments including Tribal governments and communities and the process that the State will use to solicit, prioritize, and select subgrants;

• Activity title and number;

• Individual activity costs, including Federal and nonfederal shares;

• Activity-specific scopes of work, including a list of properties, if applicable;

• Recommendations and documentation regarding the environmental review required by 44 CFR 10, Environmental Considerations, and other applicable laws and executive orders; and

• Certification that the State has evaluated the included projects and that they will be implemented in accordance with 44 CFR part 13, Uniform Administrative Requirements for Grants and Cooperative Agreements to State and Local Governments.

The Phase 2 EOC grant application should include all of the above with the following construction program forms substituted for the non-construction versions:

• Budget Information “ Construction Programs, FEMA Form 20-15;

• Assurances “ Construction Programs, FEMA Form 20-16B;

FEMA regional personnel will work directly with the States providing technical assistance, as required, as State and local governments carry out work under the grants.

Administrative Costs

Costs to administer each of the programs will be limited to 5 percent of the grant award. The amount that grantees and subgrantees choose to apply toward administrative costs will not be in addition to the grant and subgrant amounts. For grants with the 75-percent pass-through requirement, administrative costs for the grantees will be based on the portion of the grant that the State retains (i.e., States may use no more than 5 percent of the 25 percent of the total grant award they retain for administrative costs). Administrative costs for each subgrantee will be limited to 5 percent of their subgrant award. Administrative costs may be used to support grants management activities such as the review and award of subgrant applications, the preparation of quarterly reports, and monitoring subgrants. Costs related to staffing to implement program activities are eligible costs under each of the grants and do not need to be charged to the administrative costs. For example, hiring a staff person to update the State's Emergency Operations Plan is an eligible activity under the Planning grant. Indirect costs should also be included in administrative costs and must be supported with a current Indirect Cost Rate approved by a Federal Cognizant Agency. In compliance with 44 CFR 13.20, all administrative costs must be supported by source documentation. If the Indirect Cost Rate exceeds the 5-percent administrative costs allowance after all other eligible administrative costs have been identified and budgeted, the grantee must submit a request for a waiver with justification to validate the need for additional administrative costs.

Sensitive Information

FEMA will make every effort as permitted by law to protect sensitive or confidential information submitted in the grant process. If FEMA receives a third-party request for an applicant's information, both the Freedom of Information Act and FEMA's regulations contain provisions that may protect sensitive or confidential information that is determined by FEMA to be exempt from disclosure. These determinations are made on a case-by-case basis. Applicants should advise FEMA of the sensitive or confidential nature of information at the time such information is submitted. To ensure proper handling in the mail distribution process, the sensitive or confidential information should be placed in an envelope plainly marked to indicate the nature of its contents. This envelope should be placed in a second envelope marked “To be opened by addressee only” and mailed “Certified Receipt Requested.”

Reporting Requirements

The States are required to submit quarterly financial and performance reports 30 days after the end of each quarter, per 44 CFR 13.40 and 41. Reporting dates are: January 30, April 30, July 30, and October 30. The performance reports will provide a comparison of actual accomplishments to the objectives approved for the period. Where the output of the project can be quantified, that information shall be provided. The States must also report the progress of each subgrantee award in their quarterly reports. When the Department of Health and Human Services (HHS) Payment Management System (SMARTLINK) is used for advanced or reimbursement payments, the grantee is required to submit a copy of Federal Cash Transaction Report (HHS/PMS 272) to FEMA when it is submitted to HHS. In addition, final financial and performance reports are required 90 days after the close of the grant, per 44 CFR 13.50.

ADDRESSES: FEMA Regional Offices:

FEMA Region I—Serving the States of Maine, New Hampshire, Vermont, Rhode Island, Connecticut, and Massachusetts: 442 J.W. McCormack POCH, Boston, MA 02109-4595.

FEMA Region II—Serving the States of New York and New Jersey, the Commonwealth of Puerto Rico and the Territory of the U.S. Virgin Islands: 26 Federal Plaza, Rm. 1337, New York, NY 10278-0002.

FEMA Region III—Serving the District of Columbia and the States of Delaware, Maryland, Pennsylvania, Virginia, and West Virginia: 1 Independence Mall, 6th Floor, 615 Chestnut Street, Philadelphia, PA 19106-4404.

FEMA Region IV—Serving the States of Alabama, Florida, Georgia, Kentucky, Mississippi, North Carolina, South Carolina and Tennessee: 3003 Chamblee Tucker Road, Atlanta, GA 30341.

FEMA Region V—Serving the States of Illinois, Indiana, Michigan, Minnesota, Ohio and Wisconsin: 536 S. Clark Street, 6th Floor, Chicago, IL 60605.

FEMA Region VI—Serving the States of Arkansas, Louisiana, New Mexico, Oklahoma and Texas: FRC 800 North Loop 288, Denton, TX 76201-3698.

FEMA Region VII—Serving the States of Iowa, Kansas, Missouri, and Nebraska: 2323 Grand Avenue, Suite 900, Kansas City, MO 64108.

FEMA Region VIII—Serving the States of Colorado, Montana, North Dakota, South Dakota, Utah, and Wyoming: Denver Federal Center, Building 710, Box 25267, Denver, CO 80225-0267.

FEMA Region IX—Serving the States of Arizona, California, Hawaii and Nevada; the Territories of American Samoa and Guam, and the Commonwealth of the Northern Mariana Islands: 1111 Broadway, Suite 1200, Oakland, CA 94607-4052.

FEMA Region X—Serving the States of Alaska, Idaho, Oregon and Washington: Federal Regional Center, 130 228th Street, SW., Bothell, WA 98021-9709.

Dated: October 10, 2002.
Joe M. Allbaugh,
Director.

[FR Doc. 02-26405 Filed 10-16-02; 8:45 am]

BILLING CODE 6718-04-P